DEPARTMENT OF AGRICULTURE

Forest Service

Rogue-Umpqua Resource Advisory Committee

AGENCY: Forest Service, USDA.

ACTION: Notice of meeting.

SUMMARY: The Rogue-Umpqua Resource Advisory Committee will meet in Roseburg, Oregon. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review and recommend projects for funding.

DATES: The meeting will be held July 13, 9 a.m. to 4:15 p.m., and July 14, 8:30 a.m. to 3:30 p.m.

ADDRESSES: The meeting will be held at 2900 NW. Stewart Parkway, Roseburg, Oregon, in the Umpqua National Forest Supervisor's Office in the Diamond Lake Conference Room. Written comments may be submitted as described under Supplementary Information.

All comments, including names and addresses when provided, are placed in the record and are available for public inspection and copying. The public may inspect comments received at the Umpqua National Forest Supervisor's Office, 2900 NW. Stewart Parkway, Roseburg, OR. Please call ahead to 541-672-6601 to facilitate entry into the building to view comments.

FOR FURTHER INFORMATION CONTACT: Cheryl Caplan, Public Affairs Officer, Umpqua National Forest, 541-957-3270 or ccaplan@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed in FOR FURTHER INFORMATION CONTACT.

SUPPLEMENTARY INFORMATION: The following business will be conducted: Approval of agenda and minutes, public forum opportunity, election of chair, and review and recommendation of individual fiscal year 2012 Title II project nominations. Anyone who would like to bring related matters to the attention of the committee may file written statements with the committee staff before or after the meeting. The agenda will include time for people to make oral statements of three minutes or less. Individuals wishing to make an oral statement should request in writing by July 13 to be scheduled on the agenda. Written comments and requests for time for oral comments must be sent to Umpqua National Forest ATTN: Cheryl Caplan, 2900 NW. Stewart Parkway, Roseburg, OR 97471, or by e-mail to ccaplan@fs.fed.us, or via facsimile to 541-957-3495.

Dated: June 23, 2011.
Joyce E. Thompson,
Acting Forest Supervisor.

[FR Doc. 2011-16423 Filed 6-30-11; 8:45 am]

BILLING CODE 3410-11-M